DEPARTMENT OF HEALTH AND HUMAN SERVICES

Centers for Disease Control and Prevention

Draft Acute Injury Care Research Agenda for Public Comment and Recommendations

AGENCY: Centers for Disease Control and Prevention (CDC), Department of Health and Human Services (HHS).

ACTION: Draft Acute Injury Care Research Agenda for the National Center for Injury Prevention and Control.

SUMMARY: The Centers for Disease Control and Prevention (CDC) announces the availability of the Draft Acute Injury Care Research Agenda for the National Center for Injury Control and Prevention (NCIPC) and solicits comments during the public comment period of February 3, 2005, through March 3, 2005. In June 2002, NCIPC released its current Injury Research Agenda, which outlines the Center's injury research direction through 2007. The NCIPC Research Agenda highlights seven key injury research areas: Injuries at home and in the community, recreation, transportation, violence, suicide, youth violence, and acute care, disability, and rehabilitation. The NCIPC Research Agenda was being completed when the events of September 11, 2001, occurred; that event led NCIPC to revisit the agenda and see what, if any, gaps existed and needed to be addressed. This analysis revealed that out of the thirteen priority areas for research in the area of acute care, disability, and rehabilitation, only three dealt specifically with acute injury care.

Recognizing this limited focus, the NCIPC decided to supplement the current research agenda by extending the acute injury care portion of the agenda, focusing on the intersection between public health and acute injury care research.

Over the past year, NCIPC has been developing an Acute Injury Care Research Agenda based on input from external experts in the field of acute injury care (e.g., emergency medical services, emergency medicine, trauma surgery, public health), Federal partners, and internal staff. The objectives presented will be appended to the acute care section of the NCIPC Research Agenda. The proposed six research objectives and four infrastructure objectives are as follows:

Research Objectives

(1) Evaluate how mass casualty and disaster situations impact the provision of acute injury care.

(2) Evaluate strategies to translate, disseminate and implement science-based recommendations and guidelines for the care of the acutely injured.

(3) Develop and evaluate new or existing health quality measures to better assess outcomes for persons treated in a pre-hospital or hospital acute injury care setting.

(4) Identify individual, sociocultural and community factors that impact on the immediate and long-term care of the acutely injured.

(5) Develop and evaluate acute injury treatment strategies that will result in evidence-based management for persons who sustain a life-threatening injury or one that could lead to significant disability.

(6) Determine and evaluate the components of pre-hospital and hospital trauma systems that lead to improvements in outcome for the acutely injured.

Infrastructure Objective

(1) Build the acute injury care research infrastructure through the development of an Acute Injury Care Research Network (AICRN).

(2) Determine how existing databases can best be utilized to assess and improve systems of acute injury care.

(3) Develop new training programs and expand and restructure existing training and education for health professionals in injury care, prevention and research.

(4) Determine, evaluate, and address current obstacles in conducting acute injury care research.

Interested persons are invited to comment on the Draft Acute Injury Care Research Agenda. NCIPC will not be able to respond to individual comments, but all comments received by March 3, 2005; will be considered before the final Acute Injury Care Research Agenda is published. A more detailed background document is available upon request. Send requests and comments electronically to DARDInfo@cdc.gov.

Dated: January 27, 2005.
James D. Seligman,
Associate Director for Program Services, Centers for Disease Control and Prevention.

[FR Doc. 05-2041 Filed 2-2-05; 8:45 am]

BILLING CODE 4163-18-P